DEPARTMENT OF EDUCATION

RIN 1820-ZA39

Training of Interpreters for Individuals Who Are Deaf or Hard of Hearing and Individuals Who Are Deaf-Blind

AGENCY: Office of Special Education and Rehabilitative Services, Department of Education.

ACTION: Notice of proposed priorities and definitions.

SUMMARY: The Assistant Secretary for Special Education and Rehabilitative Services proposes priorities and definitions under the Training of Interpreters for Individuals Who Are Deaf or Hard of Hearing and Individuals Who Are Deaf-Blind program. The Assistant Secretary may use these priorities and definitions for competitions in fiscal year (FY) 2005 and later years. We take this action to focus on training and education as an identified area of national and regional need. We intend for the priorities to establish a National Interpreter Education Center and a Regional Interpreter Education Center or Centers that will work through Local Partner Networks to provide interpreter education to interpreters at all skill levels. The goal of these priorities is to improve the quality of interpreters in the field by providing quality educational opportunities with consumer involvement throughout the process and with a specific focus on interpreters working with consumers of Vocational Rehabilitation (VR) services. Distance technologies and distance education will be a critical component to the work of these centers.

DATES: We must receive your comments on or before January 3, 2005.

ADDRESSES: Address all comments about these proposed priorities and definitions to Annette Reichman, U.S. Department of Education, 400 Maryland Avenue, SW., room 5032, Potomac Center Plaza, Washington, DC 20202-2800. If you prefer to send your comments through the Internet, use the following address: Annette.Reichman@ed.gov.

You must include the term “Training of Interpreters for Individuals Who Are Deaf or Hard of Hearing and Individuals Who Are Deaf-Blind” in the subject line of your electronic message.

FOR FURTHER INFORMATION CONTACT: Annette Reichman. Telephone: (202) 245-7489 (voice) or via Internet: Annette.Reichman@ed.gov.

If you use a telecommunications device for the deaf (TDD), you may call the TDD number at (202) 205-8352.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities and definitions. To ensure that your comments have maximum effect in developing the notice of final priorities and definitions, we urge you to identify clearly the specific proposed priority or definition that each comment addresses.

We invite you to assist us in complying with the specific requirements of Executive Order 12866 and its overall requirement of reducing regulatory burden that might result from these proposed priorities and definitions. Please let us know of any further opportunities we should take to reduce potential costs or increase potential benefits while preserving the effective and efficient administration of the program.

During and after the comment period, you may inspect all public comments about these proposed priorities and definitions in room 5032, Potomac Center Plaza, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities and definitions. If you want to schedule an appointment for this type of aid, please contact the person listed under FOR FURTHER INFORMATION CONTACT.

Section 302(f) of the Rehabilitation Act of 1973, as amended (Act), and the regulations for this program in 34 CFR 396.1 state that the Training of Interpreters for Individuals Who Are Deaf or Hard of Hearing and Individuals Who Are Deaf-Blind program is designed to establish interpreter training programs or to assist ongoing training programs to train a sufficient number of qualified interpreters in order to meet the communications needs of individuals who are deaf or hard of hearing and individuals who are deaf-blind. The Training of Interpreters for Individuals Who Are Deaf or Hard of Hearing and Individuals Who Are Deaf-Blind program provides financial assistance to pay part of the costs to—

(1) Train manual, tactile, oral, and cued speech interpreters;

(2) Ensure the maintenance of the skills of interpreters; and

(3) Provide opportunities for interpreters to raise their level of competence.

We propose these priorities and definitions to increase the numbers of interpreters and the knowledge and skills of interpreters working with VR consumers. Access to the VR environment through the use of qualified interpreters will, in turn, increase empowerment and employment outcomes of deaf, hard of hearing, and deaf-blind VR consumers.

We will announce the final priorities and definitions in a notice in the Federal Register. We will determine the final priorities and definitions after considering responses to this notice and other information available to the Department. This notice does not preclude us from proposing or funding additional priorities or proposing additional definitions, subject to meeting applicable rulemaking requirements.

Note: This notice does not solicit applications. In any year in which we choose to use these proposed priorities and definitions, we invite applications through a notice in the Federal Register. When inviting applications, we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priorities

Background

Currently, the need for interpreting services exceeds the available supply of qualified interpreters. Federal legislation, such as the Rehabilitation Act of 1973, as amended, and the Education for All Handicapped Children Act of 1975 (Pub. L. 94-142) (now called the Individuals with Disabilities Education Act), established the legal requirements for communication and language access. These requirements led to an increased demand for qualified interpreters, outstripped the available pool, and created a serious national shortage. The passage of the Americans with Disabilities Act of 1990, as amended, further increased the demand for interpreters and worsened the national shortage of qualified interpreters. In addition, many States have passed, or are now proposing, licensure laws for interpreters, requiring interpreters working in these States to meet specific qualifications, such as specific levels of education or certification, or both. Therefore, due to the ongoing high demand on limited resources, the pool of qualified interpreters to provide services to VR consumers continues to be insufficient.

Simultaneously, deaf consumers of interpreting services have become more informed and are demanding higher quality interpreting services that meet their individual needs. Consumers and consumer organizations have expressed interest in being substantively involved in the identification, development, and delivery of the educational opportunities provided through these proposed priorities.

In order to train qualified interpreters to better meet the demand from consumers and consumer organizations, interpreter educators must be sufficient in number and be knowledgeable of current best practices. There are, however, very few programs that prepare interpreter educators to teach the interpreting process and the skill of interpreting. Consequently, many educators teaching at approximately 137 interpreter training programs throughout the country have had little or no opportunity to study how to teach interpretation. One of the national projects funded from 2000 to 2004 developed some course material to prepare interpreter educators, but this is not yet available. The Rehabilitation Services Administration (RSA) will disseminate these materials through these projects once they become available.

To address these issues and to contribute toward the education and training of a sufficient number of qualified interpreters to meet the communications needs of individuals who are deaf or hard of hearing and individuals who are deaf-blind, the Assistant Secretary proposes to establish priorities for a National Interpreter Education Center and a coordinated Regional Interpreter Education Center or Centers working with and through Local Partner Networks.

Proposed Definitions

For the purposes of these priorities, we use the following definitions:

Deaf means individuals who are deaf, hard of hearing, late deafened, or deaf-blind. The term makes no reference or judgment of preferred mode of communication or language preference.

Interpreter means individuals, both hearing and deaf, who provide interpreting or transliterating, or both, for deaf, hard of hearing, and deaf-blind individuals using a variety of languages and modes of communication including, but not limited to, American Sign Language, Conceptually Accurate Signed English, other forms of signed English, oral communication, tactile communication, and cued speech.

Local Partner Network means a formal network of individuals, organizations, and agencies including consumers, consumer organizations, community resources, service providers (especially VR agencies), VR State coordinators for the deaf, rehabilitation counselors for the deaf, and other appropriate entities with whom the Regional Interpreter Education Center will have Memoranda of Understanding or other recognized mechanisms for the provision of educational activities for interpreters.

National Interpreter Education Center means a project supported by RSA to—(1) coordinate the activities of the Regional Interpreter Education Centers; (2) ensure the effectiveness of the educational opportunities offered by the Regional Interpreter Education Centers; (3) ensure the effectiveness of the program as a whole by evaluating and reporting outcomes; (4) provide technical assistance to the field on effective practices in interpreter education; and (5) provide educational opportunities for interpreter educators.

Novice interpreter means an interpreter who has graduated from an interpreter training program and demonstrates language fluency in American Sign Language and in English, but lacks experience working as an interpreter.

Qualified interpreter means an interpreter who is able to interpret effectively, accurately, and impartially both receptively and expressively, using any necessary specialized vocabulary. This definition, which is mentioned in the Senate Report for the Rehabilitation Act Amendments of 1998, Senate Report 105-166 (Second Session 1998), is one way for States to determine if interpreters are sufficiently qualified and is based on the standard specified in the regulations implementing titles II and III of the Americans with Disabilities Act of 1990.

Regional Interpreter Education Center means a coordinated regional center to provide quality educational opportunities for interpreters at all skill levels.

Training and education will be used interchangeably.

Proposed Priority 1—National Interpreter Education Center

The purpose of this priority is to support a National Interpreter Education Center (National Center) to coordinate the activities of the Regional Interpreter Education Centers, to ensure the effectiveness of the educational opportunities offered by the Regional Interpreter Education Centers, to ensure the effectiveness of the program as a whole by evaluating and reporting outcomes, to provide technical assistance to the field on effective practices in interpreter education, and to provide educational opportunities for interpreter educators. In conducting its activities, the National Center must ensure the provision of quality educational opportunities with substantial consumer involvement throughout the process and with a specific focus on interpreting for consumers of VR services.

The National Center funded under this priority must do the following:

(a) Identify and promote effective practices in interpreter education and provide technical assistance to the Regional Interpreter Education Centers and the field on effective practices in interpreter education.

(b) Provide educational opportunities to working interpreter educators who need to obtain, enhance, or update their training on effective practices in interpreter education and to new interpreter educators.

(c) Promote improved education of interpreters and coordinate the interpreter education activities of the Regional Interpreter Education Centers by—

(1) Developing “Program Quality Indicators” for this program, including the Regional Interpreter Education Centers, and measuring performance against these indicators;

(2) Conducting education needs assessments and, based on the results, developing educational activities for delivery through the Regional Interpreter Education Centers;

(3) Collecting, analyzing, and reporting to RSA the pre- and post-assessment data of the educational activities conducted through the Regional Interpreter Education Centers;

(4) Ensuring that educational opportunities are available to individuals from a variety of cultural and linguistic backgrounds and are sensitive to the needs of those audiences; and

(5) Ensuring that deaf consumers are involved in every aspect of the project.

(d) Develop effective products for use by the Regional Interpreter Education Centers in support of their educational activities for interpreters (e.g., CDs, DVDs, Web-based materials, etc.).

(e) Promote the educational activities of the Regional Interpreter Education Centers and disseminate information to the field through activities such as— developing and maintaining a program Web site; providing materials to the RSA-sponsored National Clearinghouse on Rehabilitation Training Materials; developing and using Web-based activities such as e-newsletters, interpreter forums, consumer forums, events calendars, etc.; making presentations on results of project activities at national conferences related to interpreting and interpreter education; and making presentations on results of project activities at consumer conferences.

(f) Collect, evaluate, and report to RSA on qualitative and quantitative data on the educational activities of the Regional Interpreter Education Centers. Data must be based on clear, measurable goals that are clearly linked to results.

(g) Use the data about the individual educational activities to demonstrate overall program effectiveness. Data must be based on clear, measurable goals that are clearly linked to results.

(h) Coordinate all activities conducted under this program, including the activities of the National Center and the Regional Interpreter Education Centers, to ensure effective use of resources and consistency of quality interpreter educational opportunities to individuals in all geographic areas of the country.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC, during the last half of the project's second year. A project must budget for the travel associated with this one-day intensive review.

(b) The timeliness and effectiveness with which all requirements of the award have been or are being met by the project.

(c) Evidence of the degree to which the project's activities have contributed to changed practices and improved the quality of interpreters.

Proposed Priority 2—Regional Interpreter Education Center or Centers

The purpose of this priority is to support a coordinated Regional Interpreter Education Center or Centers to provide quality educational opportunities for interpreters at all skill levels. The educational opportunities provided by a Regional Interpreter Education Center, through collaboration with Local Partner Networks and with substantial involvement from deaf consumers, must be of sufficient scope and sequence to demonstrate an increased skill and knowledge base of the participants through the use of pre- and post-assessments. The pre- and post-assessments will measure the knowledge and skill base of the participants, both when first entering the training program and when exiting the training program, to demonstrate their enhanced knowledge and skills as interpreters as a result of the training opportunity. In addition, the primary focus of the educational opportunities must be on interpreting for consumers of VR services. Consequently, this means educating hearing and deaf interpreters to work with consumers from diverse cultural and linguistic backgrounds in diverse environments (i.e., urban, rural, low socioeconomic, territories, etc.) and within a variety of contexts (i.e., employment, job training, technical, medical, etc.).

Further, the educational opportunities must encompass both skill-based and knowledge-based topics, provide for both hearing interpreters and deaf interpreters, and focus on interpreting for a variety of individuals who have communication skills along the full spectrum of language from those with limited language skills to those with high-level, professional language skills. Educational opportunities must be provided for interpreters from all skill levels from novice to advanced, and the skill level of the training must be clearly identified. All training activities must involve cooperative efforts with consumers, consumer organizations, community resources, and service providers, especially VR agencies, VR State coordinators for the deaf, and rehabilitation counselors for the deaf. Delivery of educational opportunities may not be limited to traditional methods. Distance technologies and delivery, use of teams of deaf and hearing presenters, assignment of mentors, immersion experiences, intensive institutes, and other innovative practices must be used.

A Regional Interpreter Education Center funded under this priority must do the following:

(a) Develop formal relationships with Local Partner Networks as defined in this notice.

(b) In collaboration with the National Center, Local Partner Networks, and consumers, implement effective practices in interpreter education.

(c) In collaboration with the National Center, Local Partner Networks, and consumers, implement the “Program Quality Indicators” for this program.

(d) Coordinate with existing interpreter training programs to identify and conduct outreach activities with recent and new graduates in order to provide training, including mentoring, to make them work-ready.

(e) In collaboration with the National Center, Local Partner Networks, and consumers, provide skill-based, context-based, and knowledge-based interpreter education activities of significant scope and sequence to interpreters in the identified region. Products developed by the National Center must be incorporated into the educational activities to the greatest extent appropriate. Educational opportunities must include, but not be limited to—

(1) Educating deaf individuals and practicing deaf and hearing interpreters to serve as mentors and provide mentoring to novice and working interpreters who need additional feedback and experience to become qualified;

(2) Addressing the various linguistic and cultural preferences within the deaf, hard of hearing, and deaf-blind communities through strands of specialized interpreter education;

(3) Focusing on interpreting in specialized environments such as rehabilitation, legal, medical, mental health, or multicultural environments, working with specific populations such as deaf-blind, oral, tri-lingual, or cued speech users, and improving specific skill sets such as sign-to-voice interpreting, team interpreting, sight translation, or ethical decisionmaking and professionalism;

(4) Developing interpretation and transliteration competencies for interpreters working with deaf, hard of hearing, and deaf-blind individuals with differing modes of communication, including, but not limited to, the use of language immersion experiences in American Sign Language, Conceptually Accurate Signed English, oral communication, tactile communication, and cued speech;

(5) Using state-of-the-art technologies for training on how to deliver interpreter services from remote locations and in handling various technologies during interpreter assignments (e.g., microphones, assistive listening devices, cameras, lights, etc.); and

(6) Educating consumers on skills related to self-advocacy and working effectively with interpreters.

(f) In collaboration with the National Center, Local Partner Networks, and consumers, implement and deliver the specific educational activities identified in the education needs assessments.

(g) Provide information to the National Center for the purpose of promoting the educational activities of the National Center.

(h) Provide qualitative and quantitative data on the educational activities conducted, pre- and post-assessments, portfolios produced, participant demographics, and other pertinent information to the National Center for the purpose of evaluating program effectiveness.

(i) Coordinate and collaborate with the other Regional Interpreter Education Centers funded by RSA and funded through this priority.

Fourth and Fifth Years of Project

In deciding whether to continue a project for the fourth and fifth years, the Secretary will consider the requirements of 34 CFR 75.253(a) for continuation awards.

The Secretary will also consider the following:

(a) The recommendation of a review team consisting of experts selected by the Secretary. The team will conduct its review in Washington, DC, during the last half of the project's second year. A project must budget for the travel associated with this one-day intensive review.

(b) The timeliness and effectiveness with which all requirements of the award have been or are being met by the project.

(c) Evidence of the degree to which the project's activities have contributed to changed practices and improved quality of interpreters.

(d) Evidence of the degree to which the project's activities have served each State within its designated geographic region.

Executive Order 12866

This notice of proposed priorities and definitions has been reviewed in accordance with Executive Order 12866. Under the terms of the order, we have assessed the potential costs and benefits of this regulatory action.

The potential costs associated with the notice of proposed priorities and definitions are those resulting from statutory requirements (section 302(f) of the Act) and those we have determined as necessary for administering this program effectively and efficiently.

In assessing the potential costs and benefits—both quantitative and qualitative—of this notice of proposed priorities and definitions, we have determined that the benefits of the proposed priorities and definitions justify the costs.

Summary of Potential Costs and Benefits

The potential costs associated with these proposed priorities and definitions are minimal, while the benefits are significant. Grantees may anticipate costs associated with completing the application process in terms of staff time, copying, and mailing or delivery. The use of e-Application technology reduces mailing and copying costs significantly.

The benefits of the Training of Interpreters for Individuals Who Are Deaf or Hard of Hearing and Individuals Who Are Deaf-Blind program have been well established over the years in that similar projects have been completed successfully. These proposed priorities will generate new knowledge through training, technical assistance, and dissemination of new information to improve participation in the community for individuals who are deaf or hard of hearing or deaf-blind.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 396.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.160 Training of Interpreters for Individuals Who Are Deaf or Hard of Hearing and Individuals Who Are Deaf-Blind)

Program Authority: 29 U.S.C. 772(f).

Dated: October 29, 2004.
Troy R. Justesen,
Acting Deputy Assistant Secretary for Special Education and Rehabilitative Services.

[FR Doc. 04-24584 Filed 11-2-04; 8:45 am]

BILLING CODE 4000-01-P